FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Advanced Shipping Corporation dba Star Cluster USA (NVO), 1908 E. Dominguez Street, Carson, CA 90810. Officers: Veronica V. Cairns, President, (Qualifying Individual), Serhat Dagtas, Vice President, Application Type: Trade Name Change and QI Change.

Ancora Shipping Line, LLC (NVO & OFF), 62 Villa Place Court, Tucker, GA 30084. Officer: Nils P. Marxen, Managing Director, (Qualifying Individual), Application Type: New NVO & OFF License.

Auto Export Shipping, Inc. dba A.E.S. Inc. (NVO), 1 Slater Drive, Elizabeth, NJ 07206. Officers: Ronald A. Pfeiffer, President, (Qualifying Individual), Application Type: Add Trade Name.

CLA Investment & Development, Inc. dba CLA Shipping, Inc., (NVO & OFF), 129 S. 8th Avenue, #C, La Puente, CA 91746. Officers: Hong Wang, Secretary/CFO, (Qualifying Individual), Anson Li, CEO, Application Type: New NVO & OFF License.

Dart Express (NYC) Inc. dba Dart Global Logistics (NVO), 147-60 175th Street, 2nd Floor, Jamaica, NY 11434. Officers: Ananda L. Jayasekara, COO/Managing Director, (Qualifying Individual), Charles Wijesundera, President/CEO, Application Type: Trade Name Change and QI Change.

EZ Cruise, Inc. (NVO & OFF), 1209-11 167th Street, Baltimore, MD 21237. Officers: Omar Akbar, President, (Qualifying Individual), Etiq Shukran, Secretary/Treasurer, Application Type: New NVO & OFF License.

Hawaii Intermodal Tank Transport, LLC (NVO & OFF), 2350 S. Dock Street, #D, Palmetto, FL 34221. Officer: Bahman Sadeghi, Managing Member, (Qualifying Individual), Application Type: New NVO & OFF License.

Juan C. Fernandez dba Mind Over Business (NVO), 2301 East Edgar Road, Bldg. #4, Linden, NJ 07036. Officer: Juan C. Fernandez, Sole Proprietor, (Qualifying Individual), Application Type: New NVO License.

Mercator Transport Houston Corporation (OFF), 10418 Sagerock Drive, Houston, TX 77089. Officers: Joseph Carrion, President, (Qualifying Individual), Denis Couroux, Director, Application Type: New OFF License.

Springfield Marine Limited (NVO), Pasea Estate, P.O. Box 958, Road Town, Tortola, BVI, United Kingdom. Officers: Georges Kriemadis, Vice President, Marine Operations, (Qualifying Individual), Laurence L. MacGowan, Director, Application Type: New NVO License.

Super Cargo International Services, Inc. (OFF), 5519 N.W. 72nd Avenue, Miami, FL 33166. Officers: Jorge L. Martinez, Director, (Qualifying Individual), Richardo E. Sanabria, President, Application Type: New OFF License.

Dated: August 13, 2010.
Karen V. Gregory,
Secretary.

[FR Doc. 2010-20484 Filed 8-17-10; 8:45 am]

BILLING CODE P